DEPARTMENT OF TRANSPORTATION

Federal Aviation Administration

[Summary Notice No. PE-2001-10]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption part 11 of Title 14, Code of Federal Regulations (14 CFR), this notice contains a summary of certain petitions seeking relief from specified requirements of 14 CFR, dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before March 7, 2001.

ADDRESSES: Send comments on any petition in triplicate to: Federal Aviation Administration, Office of the Chief Counsel, Attn: Rule Docket (AGC-200), Petition Docket No. ____, 800 Independence Avenue, SW., Washington, D.C. 20591.

The petition, any comments received, and a copy of any final disposition are filed in the assigned regulatory docket and are available for examination in the Rules Docket (AGC-200), Room 915G, FAA Headquarters Building (FOB 10A), 800 Independence Avenue, SW., Washington, D.C. 20591; telephone (202) 267-3132.

FOR FURTHER INFORMATION CONTACT: Forest Rawls (202) 267-8033, or Vanessa Wilkins (202) 267-8029 Office of Rulemaking (ARM-1), Federal Aviation Administration 800 Independence Avenue, SW., Washington, DC 20591.

This notice is published pursuant to §§ 11.85 and 11.91.

Issued in Washington, D.C., on February 9, 2001.
Donald P. Byrne,
Assistant Chief Counsel for Regulations.

Dispositions of Petitions

Docket No.: 29897.

Petitioner: Teijin Seiko Co., Ltd.

Section of the 14 CFR Affected: 14 CFR 145.47(b).

Description of Relief Sought/Disposition: To permit TS to use the calibration standards of the National Research Laboratory of Metrology (NRLM) and the Electrotechnical Laboratory (ETL), Japan's national standards organizations, in lieu of the calibration standards of the U.S. National Institute of Standards and Technology (NIST), formerly the National Bureau of Standards, to test its inspection and test equipment.

Grant, 01/31/2001, Exemption No. 7430

Docket No.: 25636.

Petitioner: IAE International Aero Engines AG.

Section of the 14 CFR Affected: 14 CFR 21.325(b)(1) and (3).

Description of Relief Sought/Disposition: To permit export airworthiness approvals to be issued for Class I products (engines) assembled and tested in the United Kingdom, and for Class II and III products manufactured in the IAE consortium countries of Germany, Japan, and the United Kingdom.

Grant, 01/31/2001, Exemption No. 4991F

Docket No.: 29889.

Petitioner: Sumitomo Precision Products Co., Ltd.

Section of the 14 CFR Affected: 14 CFR 145.47(b).

Description of Relief Sought/Disposition: To permit SPP to use the calibration standards of the National Research Laboratory of Metrology (NRLM) and the Electrotechnical Laboratory (ETL), Japan's national standards organizations, in lie of the calibration standards of the U.S. National Institute of Standards and Technology (NIST), formerly the National Bureau of Standards, to test its inspection and test equipment.

Grant, 01/31/2001, Exemption No. 7431

Docket No.: 28711.

Petitioner: Trans World Airlines, Inc.

Section of the 14 CFR Affected: 14 CFR 121.434(c)(1)(ii).

Description of Relief Sought/Disposition: To permit a qualified and authorized check airmen, in lieu of an FAA inspector, to observe a qualifying pilot in command who is completing initial or upgrade training specified in 121.424 during at least one flight leg that includes one takeoff and one landing.

Grant, 01/31/2001, Exemption No. 6562B

[FR Doc. 01-3742 Filed 2-13-01; 8:45 am]

BILLING CODE 4910-13-M